COURT SERVICES AND OFFENDER SUPERVISION AGENCY

Report of a New Record System Under the Privacy Act of 1974

AGENCY: Court Services and Offender Supervision Agency (CSOSA).

ACTION: Notice.

SUMMARY: CSOSA is proposing a new system of records, which will provide for the collection of information to track, verify, update, develop the skills of CSOSA employees, and to establish and maintain an electronic system to facilitate the management of CSOSA's workforce to assist the agency with closing skills gaps, succession management, workforce planning, and training and development efforts.

SUPPLEMENTARY INFORMATION:

1. Narrative statement. CSOSA proposes to establish a new system of records subject to the Privacy Act of 1974, 5 U.S.C. 552a. The system will provide for the collection of information to track, verify, update, and develop the skills of CSOSA employees. The system information will be accessed and used by the employees themselves, their supervisors, training centers, and designated analysts and managers.

a. System name. CSOSA Competency Assessment Tool

b. System Purpose. To establish and maintain an electronic system to facilitate the management of CSOSA's workforce to assist the agency with closing skills gaps, succession management, workforce planning, and training and development efforts.

c. Authority. 5 U.S.C. 1103(c)(2)(A) and (B); 5 U.S.C. 1402(a)(6); 5 U.S.C. 4117.

d. Effect of system on individual privacy. The system will provide management and the employees the means for managing their career development with the agency. Information will be safeguarded according to established privacy rules and regulations.

e. Safeguards against unauthorized access. Records will be safeguarded in accordance with the Privacy Act requirements. Access will be limited to authorized individuals with passwords, and the database will be maintained behind an agency firewall software program and a GSA certified vendor internet service provider's security and firewall program.

2. Changes to existing agency rules. None.

3. Supporting documentation. A notice of the proposed system of records is attached.

Court Services and Offender Supervision Agency Proposed New Record System Under the Privacy Act of 1974

SYSTEM NAME:

CSOSA Competency Assessment Tool.

SYSTEM LOCATION:

Court Services and Offender Supervision Agency (CSOSA), Office of Human Resources, 655 15th St. NW., Suite 800, Washington, DC 20005. Records pertaining to core competency assessments of designated staff are located on CSOSA's servers and/or those of an authorized vendor. Records pertaining to pre-determined core competencies (e.g., leadership) may be forwarded to authorized/designated staff within CSOSA.

CATEGORIES OF INDIVIDUALS COVERED BY THE SYSTEM:

CSOSA's current and former employees, and authorized vendors whom have accessed or completed the CSOSA Competency Assessment Tool.

CATEGORIES OF RECORDS IN THE SYSTEM:

The system will contain personal information and supervisor assessments and an employee's own self-assessments of staff leadership skills and other core competencies according to established proficiency scales similar to or the Likert Scale. The assessments are tied to a master account that contains demographic data to help determine participation.

The personal demographic information in the system may include but are not limited to the following:

a. Employee's CSOSA email address.

b. First and last name.

c. Office/Branch/Unit to which the employee is assigned.

d. Pay plan.

e. Grade.

f. Occupational series/family.

g. Occupational Specialty

h. Work role, if applicable (e.g., manager, supervisor, team lead).

i. Work telephone.

j. Estimated years until retirement.

k. Tenure in current position.

l. Tenure with CSOSA.

Self-assessment information includes the employee's determination of his/her proficiency level against a set of leadership skills and other competencies using an established proficiency scale like the Likert scale. The assessment by the supervisor includes the supervisor's determination of an employee's proficiency level and the desired proficiency level of the targeted positions using the same set of competencies and proficiency scales.

AUTHORITY FOR MAINTENANCE OF THE SYSTEM INCLUDES THE FOLLOWING WITH ANY REVISIONS OR AMENDMENTS:

5 U.S.C. 1103(c)(2)(A) and (B), 5 U.S.C. 1402(a)(6), 5 U.S.C. 4117.

Additional authorities include:

Executive Order 9830—Amending the Civil Service Rules and providing for Federal personnel administration Feb. 24, 1947.

Executive Order 13197— Government-wide Accountability for Merit System Principles; Workforce Information January 18, 2001.

PURPOSE:

The purpose of the new electronic system is to establish, maintain and help to facilitate the career management of CSOSA employees. The CSOSA Competency Assessment Tool is an online and/or computer-based instrument for assessing the proficiency levels of CSOSA employees in key competencies. The computer tool allows an employee to conduct a competency self-assessment and supervisors to assess the competencies of their employees to determine competency strengths and areas for improvement. CSOSA can use the results of the assessments to support its skills gap analyses, succession management, workforce planning, and training and development efforts.

ROUTINE USES OF RECORDS MAINTAINED IN THE SYSTEM, INCLUDING CATEGORIES OF USERS AND THE PURPOSES OF SUCH USES:

The records and information in these records may be disclosed as a routine use:

1. To the appropriate Federal, State, or local agency responsible for investigating, prosecuting, enforcing, or implementing a statute, rule, regulation, or order when CSOSA becomes aware of a violation or potential violation of a civil or criminal law or regulation.

2. To a Member of Congress or his or her staff on behalf of and at the request of the individuals who is the subject of the record.

3. To another Federal agency or a party in litigation before a court or in an administrative proceeding being conducted by a Federal agency, when the Government is a party to the judicial or administrative proceeding, and such information is the subject of a court order directing disclosure or deemed by CSOSA to be relevant and necessary to the litigation.

4. By the National Archives and Records Administration in records management and inspections.

5. To provide an authorized CSOSA official or staff member information needed in the performance of official duties related to reconciling or reconstructing data files, compiling description statistics, and making analytical studies to support the function for which the records were collected and maintained.

6. By CSOSA, in the production of summary descriptive statistics and analytical studies in support of the function for which the records are collected and maintained, or for related workforce studies. While published statistics and studies do not contain individual identifiers, in some instances, the selection of elements of data included in the study may be structured in such a way as to make the data individually identifiable by inference.

7. To disclose information to the Department of Justice or in a proceeding before a court, adjudicative body, or other administrative body before which CSOSA is authorized to appear, when:

a. CSOSA, or any component thereof; or

b. Any employee of CSOSA in his or her official capacity; or

c. Any employee of CSOSA in his or her individual capacity where the Department of Justice or CSOSA has agreed to represent the employee; or

d. The United States, when CSOSA determines that litigation is likely to affect CSOSA or any of its components, is a party to litigation or has an interest in such litigation, and the use of such records by the Department of Justice or CSOSA is deemed by CSOSA to be relevant and necessary to the litigation.

8. To disclose information to officials of the Merit Systems Protection Board or the Office of the Special Counsel, when requested in connection with appeals, special studies of the civil service and other merit systems, review of OPM rules and regulations, investigations of alleged or possible prohibited personnel practices, and such other functions as promulgated in 5 U.S.C. 1205 and 1206, or as may be authorized by law.

9. To disclose information to the U.S. Equal Employment Opportunity Commission when requested in connection with investigations into alleged or possible discrimination practices in the Federal sector, examination of Federal affirmative employment programs, compliance by Federal agencies with the Uniform Guidelines of Employee Selection Procedures, or other functions vested in the Commission.

10. To disclose information to the Federal Labor Relations Authority or its General Counsel when requested in connection with investigations of allegations of unfair labor practices of matters before the Federal Service Impasses Panel.

11. To disclose information to the Office of Management and Budget at any stage of the legislative coordination and clearance process in connection with private relief legislation as set forth in OMB circular No. A-19.

12. To provide authorized CSOSA officials, vendors or staff members information needed in the performance of official duties related to succession planning, workforce analysis, skills gap closure, training and development, or recruitment and retention.

13. To provide individual users the ability to view self-entered data on individual competency proficiency levels.

14. To provide reports to authorized CSOSA officials and staff on aggregate level data of proficiency levels in identified competencies across the Agency.

15. To provide specific raw data reports to authorized CSOSA officials and staff on individual-level data related to proficiency levels in identified competencies.

16. To disclose aggregate level data from the CSOSA Competency Assessment Tool via an agency-wide report.

17. To authorized contractors, vendors, grantees, or volunteers performing or working on a contract, service, grant, cooperative agreement, or job for CSOSA or the Federal government that is in the performance of a Federal duty to which the information is deemed relevant.

18. To disclose to a requesting Federal agency, information in connection with the hiring, retention, separation, or retirement of an employee; the issuance of a security clearance; the reporting of an investigation of an employee; the letting of a contract; the classification of a job; or the issuance of a license, grant, or other benefit by the requesting agency, to the extent that CSOSA determines that the information is relevant and necessary to the requesting party's decision on the matter.

19. To an appeal, grievance, hearing, or complaints examiner; an equal opportunity investigator, arbitrator, or mediator; and an exclusive representative or other person authorized to investigate or settle a grievance, complaint, or appeal filed by an individual who is the subject of the record.

POLICIES AND PRACTICES OF STORING, RETRIEVING, SAFEGUARDING, RETAINING AND DISPOSING OF RECORDS IN THE SYSTEM:

STORAGE:

The records are maintained in an electronic relational database management system hosted on CSOSA's electronic network servers and/or through Survey Monkey, a GSA approved vendor's Internet server, accessed via a password-restricted system. Duplicate records also exist on magnetic backup tapes maintained by agency servers or on Survey Monkey.

RETRIEVABILITY:

Authorized CSOSA personnel can retrieve system records by using the employee's name and employee identification number. Authorized personnel can aggregate the results of individual and supervisor assessments and create reports, without specifically identifying individuals. Authorized personnel can also retrieve system records that produce raw data reports that will contain the identity of individuals. An employee can retrieve their own information and individual reports (which contain a record of how the individuals assessed themselves, along with how the supervisor assessed the position) using their name and employee identification number. All system records are accessed through the agency's computer network and/or a GSA approved Internet service provider through a password-restricted system.

SAFEGUARDS:

These records are maintained in controlled access areas. Identification cards are verified to ensure that only authorized personnel are present. Electronic records are protected by restricted access procedures, including the use of passwords and sign-on protocols which are periodically changed. Only employees whose official duties require access are allowed to view, administer, and control these records. The database will be maintained behind a firewall maintained by Survey Monkey, a GSA certified internet server provider, and the agency's own firewall software programs.

RETENTION AND DISPOSAL:

System records are retained and disposed of according to CSOSA's records maintenance and disposition schedules and the requirements of the National Archives and Records Administration. Any attempts to complete and completed competency assessments are archived to a computerized storage disk nightly and retained on the agency's backup computer network server for five years. When records are purged from the agency's computer server, the records are transferred to a Compact Disc (CD) or other electronic media. Records in electronic media are electronically erased. CD or other electronic media are maintained for five years.

SYSTEM MANAGER AND ADDRESS:

Associate Director, Office of Human Resources, Court Services and Offender Supervision Agency (CSOSA), 655 15th St. NW., Washington, DC 20005.

NOTIFICATION PROCEDURE:

Individuals wishing to inquire if this system contains information about them should contact the system manager or designee. Individuals must furnish the following information for their records to be located and identified:

a. Name (current and/or former).

b. Name of Office/Branch/Unit in which currently and/or formerly employed in CSOSA.

RECORD ACCESS PROCEDURE:

Individuals wishing to request access to their records in this system should contact the system manager. Individuals must furnish the following information for their records to be located and identified:

a. Name (current and/or former).

b. Name of Office/Branch/Unit in which currently and/or formerly employed in CSOSA.

Individuals requesting access must also follow CSOSA's Privacy Act regulations on verification of identity and access to records (5 CFR part 297).

CONTESTING RECORD PROCEDURE:

Individuals wishing to request amendment of their records in this system should contact the system manager. Individuals must furnish the following information for their records to be located and identified:

a. Name (current and/or former).

b. Name of Office/Branch/Unit in which currently and/or formerly employed in CSOSA.

Individuals requesting amendment of their records must also follow CSOSA's Privacy Act regulations regarding verification of identity and amendment of records (5 CFR part 297).

RECORD SOURCE CATEGORIES:

The information in this system is obtained from:

a. The individual to whom the information pertains.

b. The supervisor of the individual to whom the information pertains.

c. CSOSA's Office of Human Resources.

Dated: February 21, 2014.
Diane Bradley,
Assistant General Counsel, Court Services and Offender Supervision Agency.

[FR Doc. 2014-05659 Filed 3-11-14; 4:15 pm]

BILLING CODE 3129-04-P